DEPARTMENT OF COMMERCE

National Oceanic and Atmospheric Administration

RIN 0648-XI88

Taking of Marine Mammals Incidental to Specified Activities; Taking Marine Mammals Incidental to Navy Training Operations Conducted Within the Navy Cherry Point Range Complex

AGENCY: National Marine Fisheries Service (NMFS), National Oceanic and Atmospheric Administration (NOAA), Commerce.

ACTION: Notice; receipt of applications for a letter of authorization (LOA); request for comments and information.

SUMMARY: NMFS has received requests from the U.S. Navy (Navy) for an authorization for the take of marine mammals incidental to training operations conducted within the Navy Cherry Point Range Complex off the coast of North Carolina for the period beginning May 29, 2009 and ending May 28, 2014. Pursuant to the implementing regulations of the Marine Mammal Protection Act (MMPA), NMFS is announcing our receipt of the Navy's request for the development and implementation of regulations governing the incidental taking of marine mammals and inviting information, suggestions, and comments on the Navy's application and request.

DATES: Comments and information must be received no later than August 7, 2008.

ADDRESSES: Comments on the applications should be addressed to P. Michael Payne, Chief, Permits, Conservation and Education Division, Office of Protected Resources, National Marine Fisheries Service, 1315 East-West Highway, Silver Spring, MD 20910-3225. The mailbox address for providing email comments is PR1.0648-XI88@noaa.gov. NMFS is not responsible for e-mail comments sent to addresses other than the one provided here. Comments sent via e-mail, including all attachments, must not exceed a 10-megabyte file size. Copies of the Navy's application may be obtained by writing to the address specified above (See ADDRESSES), telephoning the contact listed below (see FOR FURTHER INFORMATION CONTACT), or visiting the internet at: http://www.nmfs.noaa.gov/pr/permits/incidental.htm.

FOR FURTHER INFORMATION CONTACT: Shane Guan, Office of Protected Resources, NMFS, (301) 713-2289, ext. 137.

SUPPLEMENTARY INFORMATION:

Background

Sections 101(a)(5)(A) and (D) of the MMPA (16 U.S.C. 1361 et seq.) direct the Secretary of Commerce (Secretary) to allow, upon request, the incidental, but not intentional taking of marine mammals by U.S. citizens who engage in a specified activity (other than commercial fishing) if certain findings are made and regulations are issued or, if the taking is limited to harassment, notice of a proposed authorization is provided to the public for review.

Authorization for incidental takings may be granted if NMFS finds that the taking will have no more than a negligible impact on the species or stock(s), will not have an unmitigable adverse impact on the availability of the species or stock(s) for subsistence uses, and if the permissible methods of taking and requirements pertaining to the mitigation, monitoring and reporting of such taking are set forth.

NMFS has defined “negligible impact” in 50 CFR 216.103 as:

an impact resulting from the specified activity that cannot be reasonably expected to, and is not reasonably likely to, adversely affect the species or stock through effects on annual rates of recruitment or survival.

With respect to military readiness activities, the MMPA defines “harassment” as:

(i) any act that injures or has the significant potential to injure a marine mammal or marine mammal stock in the wild [Level A Harassment]; or

(ii) any act that disturbs or is likely to disturb a marine mammal or marine mammal stock in the wild by causing disruption of natural behavioral patterns, including, but not limited to, migration, surfacing, nursing, breeding, feeding, or sheltering, to a point where such behavioral patterns are abandoned or significantly altered [Level B Harassment].

Summary of Request

On June 13, 2008, NMFS received an application from the Navy requesting an LOA for the take of bottlenose and Atlantic spotted dolphins by Level B harassment incidental to the proposed training activities within the Navy's Cherry Point Range Complex over the course of 5 years. These training activities are classified as military readiness activities. The Cherry Point Range Complex geographically encompasses offshore and near-shore operation areas (OPAREAs), instrumented ranges, and special use airspace located along the U.S. Atlantic coast, and is shown in Figure 1 of the Navy's LOA application. Please refer to Table 31 of the LOA application for detailed information of the potential exposures from explosive ordnance (per year) for marine mammals in the proposed Cherry Point Range Complex area.

Specified Activities

In the application submitted to NMFS, the Navy requests authorizations for take of marine mammals incidental to conducting training operations within the Cherry Point Range Complex. These training activities consist of surface warfare, mine warfare, amphibious warfare, and vessel movement. A description of each of these training activities within each of the range complexes is provided below:

Surface Warfare

Surface Warfare (SUW) supports defense of a geographical area (e.g., a zone or barrier) in cooperation with surface, subsurface, and air forces. SUW operations detect, localize, and track surface targets, primarily ships. Detected ships are monitored visually and with radar. Operations include identifying surface contacts, engaging with weapons, disengaging, evasion and avoiding attack, including implementation of radio silence and deceptive measures.

For the proposed Cherry Point Range Complex training operations, SUW involving the use of explosive ordnance includes air-to-surface Missile Exercises (MISSILEX). The MISSILEX would involve helicopter crews launch missiles at at-sea surface targets with the goal of destroying or disabling the target. MISSILEX (A-S) training in the Cherry Point Range Complex could occur during the day or at night.

Mine Warfare/Mine Exercises

Mine Warfare (MIW) includes the strategic, operational, and tactical use of mines and mine countermine measures (MCM). MIW training is divided into (a) the laying of mines to degrade the enemy's capabilities to wage land, air, and maritime warfare, and (b) the countering of enemy-laid mines to permit friendly maneuver or use of selected land or sea areas.

MIW consists of two unit level operations: airborne mine countermeasures (AMCM) and mine neutralization. AMCM or Mine Countermeasures Exercises (MCMEX) train forces to detect, identify, classify, mark, avoid, and disable (or verify destruction of) underwater mines (bottom or moored) using a variety of methods including air, surface, sub-surface, and ground assets. The AMCM systems include mine hunting sonar (AQS-24A), influence mine sweeping systems (MK-105 and MK-104), anti-mine ordnance (Airborne Mine Neutralization System (AMNS)), and moored mine sweep system (MK-103).

Mine Neutralization operations involve the detection, identification, evaluation, rendering safe, and disposal of underwater Unexploded Ordnance (UXO) that constitutes a threat to ships or personnel. Mine hunting techniques involve divers, specialized sonar, and unmanned underwater vehicles (UUVs) to locate and classify the mines and then destroy them using one of two methods: mechanical (explosive cutters) or influence (matching the acoustic, magnetic, or pressure signature of the mine).

In addition to the current mine exercises, the Organic Airborne Mine Countermeasures (OAMCM) training exercises would begin in the Navy Cherry Point Operating Area as these new systems are introduced into the fleet. The OAMCM systems include mine hunting sonar (AQS-20), influence mine sweeping towed arrays that emulates the magnetic and acoustic signatures of transit platforms, anti-mine ordnance systems, and mine hunting laser that uses a light imaging detecting and ranging (LIDAR) to detect, localize, and classify near-surface moored/floating mines.

MIW training using Explosive Ordnance Disposal (EOD) underwater detonations in the Navy Cherry Point Study Area occur only during daylight hours.

Amphibious Warfare

Amphibious Warfare (AMW) involves the utilization of naval firepower and logistics in combination with U.S. Marine Corps landing forces to project military power ashore. AMW encompasses a broad spectrum of operations involving maneuver from the sea to objectives ashore, ranging from shore assaults, boat raids, ship-to-shore maneuver, shore bombardment and other naval fire support, and air strike and close air support training. In the Cherry Point Range Complex, AMW training is limited to Firing Exercises (FIREX).

During an FIREX, surface ships use their main battery guns to fire from sea at land targets in support of military forces ashore. On the east coast, the land ranges where FIREX training can take place are limited. Therefore, land masses are simulated during east coast FIREX training using the Integrated Maritime Portable Acoustic Scoring and Simulation System (IMPASS) system, a system of buoys that simulate a land mass. FIREX training using IMPASS in the Cherry Point Range Complex study area occurs only during daylight hours.

Vessel Movement

Vessel movements are associated with most activities under the training operations in the Cherry Point Range Complex. Currently, the number of Navy vessels operating in the Cherry Point study areas varies based on training schedules and can range from 0 to about 10 vessels at any given time. Ship sizes range from 362 ft (110 m) for a submarine to 1,092 ft (333 m) for an aircraft carrier and speeds generally range from 10 to 14 knots. Operations involving vessel movements occur intermittently and are variable in duration, ranging from a few hours up to 2 weeks. These operations are widely dispersed throughout the operation area, which is a vast area encompassing 18,617 nm² (an area approximately the size of West Virginia). The Navy logs about 950 total vessel days within the Cherry Point study area during a typical year. Consequently, the density of ships within the study area at any given time is extremely low (i.e., less than 0.005 ships/nm²).

Proposed Monitoring and Mitigation Measures

The Navy is developing an Integrated Comprehensive Monitoring Program (ICMP) for marine species to assess the effects of training activities on marine species and investigate population trends in marine species distribution and abundance in various range complexes and geographic locations where Navy training occurs. The primary tools available for monitoring include visual observations, acoustic monitoring, photo identification and tagging, and oceanographic and environmental data collection.

A list of proposed mitigation measures and standard operating procedures are described in the application for the proposed training operations. These mitigation measures include personnel training for watchstanders and lookouts in marine mammal monitoring, operating procedures for collision avoidance, specific measures applicable to the mid-Atlantic during North Atlantic right whale migration, and a series of measures for specific at-sea training events including surface-to-surface gunnery, etc. A detailed description of the monitoring and mitigation measures are provided in the applications.

Information Solicited

Interested persons may submit information, suggestions, and comments concerning the Navy's request (see ADDRESSES). All information, suggestions, and comments related to the Navy's Cherry Point Range Complex request and NMFS' potential development and implementation of regulations governing the incidental taking of marine mammals by the Navy's training activities will be considered by NMFS in developing, if appropriate, the most effective regulations governing the issuance of letters of authorization.

Dated: July 2, 2008.
James H. Lecky,
Director, Office of Protected Resources, National Marine Fisheries Service.

[FR Doc. E8-15472 Filed 7-7-08; 8:45 am]

BILLING CODE 3510-22-S